DEPARTMENT OF COMMERCE

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Northeast Region Vessel Identification Requirements.

Form Number(s): None.

OMB Approval Number: 0648-0350.

Type of Request: Regular submission.

Burden Hours: 4,500.

Number of Respondents: 6,000.

Average Hours Per Response: 45 minutes.

Needs and Uses: Federally permitted fishing vessels in the Northeast Region of the U.S. must display their vessel identification numbers on three locations (port and starboard sides of the deckhouse or hull, and an appropriate weather deck) on the vessel at a specified size. The requirement is needed to assist the NOAA's National Marine Fisheries Service and the U.S. Coast Guard in enforcing fishery regulations.

Affected Public: Business or other for-profit organizations.

Frequency: Annually.

Respondent's Obligation: Mandatory.

OMB Desk Officer: David Rostker, (202) 395-3897.

Copies of the above information collection proposal can be obtained by calling or writing Diana Hynek, Departmental Paperwork Clearance Officer, (202) 482-0266, Department of Commerce, Room 6625, 14th and Constitution Avenue, NW., Washington, DC 20230 (or via the Internet at: dHynek@doc.gov).

Written comments and recommendations for the proposed information collection should be sent within 30 days of publication of this notice to David Rostker, OMB Desk Officer, Fax number (202) 395-7285, or David_Rostker@omb.eop.gov.

Dated: March 20, 2008.
Gwellnar Banks,
Management Analyst, Office of the Chief Information Officer.

[FR Doc. E8-6048 Filed 3-25-08; 8:45 am]

BILLING CODE 3510-22-P